FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

OTS Global Logistics (Mia) Inc. dba OTS Ocean Transportation Lines, 1701 NW. 84th Avenue, Miami, FL 33126. Officers: Gabriel Buedo, President, (Qualifying Individual) Alicia Byrne, Director.

Weiss-Rohlig USA LLC, 1555 Mittel Blvd., Suite N, Wood Dale, IL 60191. Officers: Steven Moser, Operations Officer, (Qualifying Individual) Paul Senger-Weiss, President.

Great Luck Inc., 1515 W. 178th Street, #102, Gardens, CA 90248. Officers: Jay Hino, Chief Operating Officer, (Qualifying Individual) Tetsumasa Suga, President/CEO.

Cargo International Consolidators, Inc., 18327 SW 151 Avenue, Miami, FL 33187. Officers: Michelle E. Fajardo, Director, (Qualifying Individual) Vivian E. Wever, Director.

Aqua Air Enterprises, 5250 W. Century Blvd., #606, Los Angeles, CA 90045. Jono Babic, Sole Proprietor.

Non-Vessel Operating Common

Carrier and Ocean Freight Forwarder Transportation Intermediary Applicants:

Via Global Logistics, Inc., 150-30 132nd Avenue, #206, Jamaica, NY 11434. Officers: Charles Ching, President, Connie Chin, Vice President, (Qualifying Individuals) Cynthia Joa, Secretary.

Kingsco Shipping Line, Inc., 500 Carson Plaza Dr., Suite 208, Carson, CA 90746. Officer: Eun K. Han, President (Qualifying Individual).

Astron Distribution, Inc., 1316 NW. 78th Avenue, Miami, FL 33126. Officers: Karla V. Kushton, Vice President Sales, (Qualifying Individual) Dan C. Boiangin, President.

Ocean Freight Forwarder—Ocean Transportation Intermediary Applicants:

Intertrans Express, Inc., 2219 W. Valley Blvd., Alhambra, CA 91803. Officers: Charles Yu, Director, (Qualifying Individual) Chun Tsung Tao, President.

Cargo International Services, Inc., 18327 SW 151 Avenue, Miami, FL 33187. Officers: Vivian E. Wever, Director, (Qualifying Individual) Michelle E. Fajardo, Director.

Dated: July 18, 2003.
Bryant L. VanBrakle,
Secretary.

[FR Doc. 03-18737 Filed 7-22-03; 8:45 am]

BILLING CODE 6730-01-P